DEPARTMENT OF COMMERCE

International Trade Administration

[A-570-002]

Chloropicrin from the People's Republic of China: Notice of Continuation of Antidumping Duty Order

AGENCY: Import Administration, International Trade Administration, Department of Commerce.

SUMMARY: As a result of the determination by the Department of Commerce (“the Department”) and the International Trade Commission (“ITC”) that revocation of the antidumping duty order on chloropicrin from the People's Republic of China (“PRC”) would be likely to lead to continuation or recurrence of dumping and of material injury to an industry in the United States within a reasonably foreseeable time, the Department is publishing notice of the continuation of this antidumping duty order.

EFFECTIVE DATE: May 18, 2010.

FOR FURTHER INFORMATION CONTACT: Jennifer Moats, AD/CVD Operations, Import Administration, International Trade Administration, U.S. Department of Commerce, 14th Street and Constitution Avenue, NW, Washington, DC 20230; telephone: (202) 482-5047.

SUPPLEMENTARY INFORMATION: On July 1, 2009, the Department of Commerce (“the Department”) initiated a sunset review of the antidumping duty order on chloropicrin from the People's Republic of China (“PRC”) pursuant to section 751(c) of the Tariff Act of 1930, as amended (“the Act”).¹

¹ See Initiation of Five-year (“Sunset”) Review, 74 FR 31412 (July 1, 2009); see also Antidumping Duty Order; Chloropicrin from the People's Republic of China, 49 FR 10691 (March 22, 1984) (“Order”).

The Department conducted an expedited sunset review of this order. As a result of its review, the Department found that revocation of the antidumping duty order would be likely to lead to continuation or recurrence of dumping and notified the ITC of the magnitude of the margins likely to prevail were the order to be revoked.²

² See Chloropicrin From the People's Republic of China: Final Results of the Expedited Sunset Review of the Antidumping Duty Order, 74 FR 57450 (November 6, 2009).

On April 23, 2010, the ITC published its determination pursuant to section 751(c) of the Act that revocation of the antidumping duty order on chloropicrin from the PRC would be likely to lead to continuation or recurrence of material injury to an industry in the United States within a reasonably foreseeable time.³

³ See Chloropicrin from China, 75 FR 21346 (April 23, 2010)

Scope of the Order:

The merchandise subject to this antidumping duty order is chloropicrin, also known as trichloronitromethane. A major use of the product is as a pre-plant soil fumigant (pesticide). Such merchandise is currently classifiable under Harmonized Tariff Schedule (“HTS”) item number 2904.90.50.05.⁴ The HTS item number is provided for convenience and customs purposes. The written description remains dispositive.

⁴ In 2004, a new HTS category was developed and identified specifically for imports of chloropicrin i.e., 2904.90.50.05. Previously, the HTS category that included chloropicrin was 2904.90.50.

Continuation of the Order:

As a result of the determinations by the Department and the ITC that revocation of the antidumping duty order would be likely to lead to continuation or recurrence of dumping and material injury to an industry in the United States, pursuant to section 751(d)(2) of the Act, the Department hereby orders the continuation of the antidumping duty order on chloropicrin from the PRC.

U.S. Customs and Border Protection will continue to collect antidumping duty cash deposits at the rates in effect at the time of entry for all imports of subject merchandise.

The effective date of continuation of this order will be the date of publication in the Federal Register of this Notice of Continuation. Pursuant to section 751(c)(2) of the Act, the Department intends to initiate the next five-year review of the order not later than 30 days prior to the fifth anniversary of the effective date of continuation.

This five-year (sunset) review and this notice are in accordance with sections 751(c) and 777(i)(1) of the Act and 19 CFR 351.218(f)(4).

Dated: April 30, 2010.
Ronald K. Lorentzen,
Deputy Assistant Secretary for Import Administration.

[FR Doc. 2010-11871 Filed 5-17-10; 8:45 am]

BILLING CODE 3510-DS-S